DEPARTMENT OF LABOR

Employment and Training Administration

[TA-W-91,562]

Halliburton Energy Services, Inc. Technology, Duncan, Oklahoma; Notice of Revised Determination on Reconsideration

On August 22, 2016, the Department of Labor issued an Affirmative Determination Regarding Application for Reconsideration for the workers and former workers of Halliburton Energy Services, Inc., Technology, Duncan, Oklahoma.

To support the request for reconsideration, the petitioners supplied additional information regarding their activities to supplement that which was gathered during the initial investigation. In the initial investigation, the Department determined that the worker group was engaged in the production of crude oil, natural gas, and natural gas liquids (NGLs). The petitioners supplied additional information that the worker group is engaged in activities related to the production of oilfield equipment, specifically.

Based on information from the petitioners and the company officials provided during the reconsideration investigation, the Department of Labor determines that the worker group is engaged in activities related to the production of oilfield equipment, specifically designing internal and customer specified oilfield service equipment to be manufactured. The Department also determines that increased company imports of oilfield equipment have contributed importantly to the production declines and workers separations at Halliburton Energy Services, Inc., Technology, Duncan, Oklahoma.

Conclusion

After careful review of the additional facts obtained on reconsideration, I determine that workers of Halliburton Energy Services, Inc., Technology, Duncan, Oklahoma, who were engaged in activities related to the production of oilfield equipment, meet the worker group certification criteria under Section 222(a) of the Act, 19 U.S.C. 2272(a). In accordance with Section 223 of the Act, 19 U.S.C. 2273, I make the following certification:

All workers of Halliburton Energy Services, Inc., Technology, Duncan, Oklahoma who became totally or partially separated from employment on or after March 7, 2015, through two years from the date of this certification, and all workers in the group threatened with total or partial separation from employment on date of certification through two years from the date of certification, are eligible to apply for adjustment assistance under Chapter 2 of Title II of the Trade Act of 1974, as amended.

Signed in Washington, DC, this 20th day of October, 2016
Hope D. Kinglock,
Certifying Officer, Office of Trade Adjustment Assistance.

[FR Doc. 2016-28912 Filed 12-1-16; 8:45 am]

BILLING CODE 4510-FN-P